DEPARTMENT OF ENERGY

Federal Energy Regulatory Commission

Combined Notice of Filings

Take notice that the Commission has received the following Natural Gas Pipeline Rate and Refund Report filings:

Filings Instituting Proceedings

Docket Number: PR17-44-000.

Applicants: Hope Gas, Inc.

Description: Tariff filing per 284.123(b),(e)+(g): HGI—Trade Name Amendment to be effective 5/16/2017; Filing Type: 1300.

Filed Date: 5/23/17.

Accession Number: 201705235073.

Comments Due: 5 p.m. ET 6/13/17.

284.123(g) Protests Due: 5 p.m. ET 7/24/17.

Docket Numbers: RP17-754-000.

Applicants: Midcontinent Express Pipeline LLC.

Description: Midcontinent Express Pipeline LLC submits tariff filing per 154.204: Tariff Update Filing May 2017 to be effective 7/1/2017.

Filed Date: 05/23/2017.

Accession Number: 20170523-5038.

Comment Date: 5:00 p.m. Eastern Time on Monday, June 05, 2017.

Docket Numbers: RP17-755-000.

Applicants: White River Hub, LLC.

Description: Annual Report of Fuel Gas Reimbursement Percentage for 2017 of White River Hub, LLC.

Filed Date: 05/23/2017.

Accession Number: 20170523-5125.

Comment Date: 5:00 p.m. Eastern Time on Monday, June 05, 2017.

Docket Numbers: RP17-756-000.

Applicants: Questar Southern Trails Pipeline Company.

Description: Annual Report of Fuel Gas Reimbursement Percentage for 2017 of Questar Southern Trails Pipeline Company.

Filed Date: 05/23/2017.

Accession Number: 20170523-5126.

Comment Date: 5:00 p.m. Eastern Time on Monday, June 05, 2017.

Docket Numbers: RP17-757-000.

Applicants: Iroquois Gas Transmission System, L.P.

Description: Iroquois Gas Transmission System, L.P. submits tariff filing per 154.204: 05/23/17 Negotiated Rates—Sequent Energy Management (HUB) 3075-89 to be effective 5/23/2017.

Filed Date: 05/23/2017.

Accession Number: 20170523-5143.

Comment Date: 5:00 p.m. Eastern Time on Monday, June 05, 2017.

Docket Numbers: RP17-758-000.

Applicants: Iroquois Gas Transmission System, L.P.

Description: Iroquois Gas Transmission System, L.P. submits tariff filing per 154.204: 05/23/17 Negotiated Rates—Mercuria Energy America, Inc. (HUB) 7540-89 to be effective 5/23/2017.

Filed Date: 05/23/2017.

Accession Number: 20170523-5144.

Comment Date: 5:00 p.m. Eastern Time on Monday, June 05, 2017.

Docket Numbers: RP17-759-000.

Applicants: Elba Express Company, L.L.C.

Description: Elba Express Company, L.L.C. submits tariff filing per 154.203: Annual Cashout True-up 2017.

Filed Date: 05/24/2017.

Accession Number: 20170524-5049.

Comment Date: 5:00 p.m. Eastern Time on Monday, June 05, 2017.

Docket Numbers: RP17-760-000.

Applicants: El Paso Natural Gas Company, L.L.C.

Description: El Paso Natural Gas Company, L.L.C. submits tariff filing per 154.601: Negotiated Rate Agreement Update (APS June 2017) to be effective 6/1/2017 under.

Filed Date: 05/24/2017.

Accession Number: 20170524-5088.

Comment Date: 5:00 p.m. Eastern Time on Monday, June 05, 2017.

Docket Numbers: RP17-761-000.

Applicants: Transcontinental Gas Pipe Line Company,

Description: Transcontinental Gas Pipe Line Company, LLC submits tariff filing per 154.403: Rate Schedules LSS and SS-2 Tracker—Eff. 06/01/2017 to be effective 6/1/2017.

Filed Date: 05/24/2017.

Accession Number: 20170524-5151.

Comment Date: 5:00 p.m. Eastern Time on Monday, June 05, 2017.

Docket Numbers: RP17-762-000.

Applicants: Tallgrass Interstate Gas Transmission, L.

Description: Tallgrass Interstate Gas Transmission, LLC submits tariff filing per 154.204: TIGT PAWS FILING to be effective 7/1/2017.

Filed Date: 05/24/2017.

Accession Number: 20170524-5175.

Comment Date: 5:00 p.m. Eastern Time on Monday, June 05, 2017.

Docket Numbers: RP17-763-000.

Applicants: Tallgrass Interstate Gas Transmission, L.

Description: Penalty Charge Reconciliation Filing of Tallgrass Interstate Gas Transmission, LLC.

Filed Date: 05/24/2017.

Accession Number: 20170524-5204.

Comment Date: 5:00 p.m. Eastern Time on Monday, June 05, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 30, 2017.
Kimberly D. Bose,
Secretary.

[FR Doc. 2017-11662 Filed 6-5-17; 8:45 am]

BILLING CODE 6717-01-P